DEPARTMENT OF HEALTH AND HUMAN SERVICES

Substance Abuse and Mental Health Services Administration

Center for Substance Abuse Prevention; Advisory Committee; Drug Testing Advisory Board; Renewal

AGENCY: Substance Abuse and Mental Health Services Administration, HHS.

ACTION: Notice.

SUMMARY: The Substance Abuse and Mental Health Services Administration (SAMHSA) is announcing the renewal of SAMHSA's Center for Substance Abuse Prevention (CSAP) Drug Testing Advisory Board (DTAB).

FOR FURTHER INFORMATION CONTACT: Brian Makela, Division of Workplace Programs, CSAP, SAMHSA, 5600 Fishers Lane, Room 16N02B, Rockville, Maryland 20857, Telephone: 240-276-2600, Fax: 240-276-2610, Email: brian.makela@ssamhsa.hhs.gov.

SUPPLEMENTARY INFORMATION: The Center for Substance Abuse Prevention (CSAP) Drug Testing Advisory Board (DTAB) is authorized by 42 U.S.C. 217a (Section 222 of the Public Health Service Act), as amended. The CSAP DTAB is governed by the provisions of the Federal Advisory Committee Act, as amended, 5 U.S.C., App., which sets forth standards for the formation and use of advisory committees.

The CSAP DTAB provides advice to the Administrator, SAMHSA, based on an ongoing review of the direction, scope, balance, and emphasis of the Agency's drug testing activities and the drug testing laboratory certification program.

Summer King,
Statistician, Substance Abuse and Mental Health Services Administration.

[FR Doc. 2016-15815 Filed 7-1-16; 8:45 am]

BILLING CODE 4162-20-P